DEPARTMENT OF AGRICULTURE

Submission for OMB Review; Comment Request

May 12, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Performance Standards and Reporting SNAP Modernization Initiatives.

OMB Control Number: 0584-NEW.

Summary of Collection: The Food, Conservation, and Energy Act of 2008 (Pub. L. 110-234), amended Section 11 of the Food and Nutrition Act of 2008, (7 U.S.C. 2020), to include a provision for the Food and Nutrition Service (FNS) to develop standards for identifying major operational changes and for States to provide any information required by the U.S. Department of Agriculture (USDA). To inform USDA's development of such standards, this data collection will gather information from all 50 States and the District of Columbia in order to better understand how States are assessing performance of their modernization initiatives.

Need and Use of the Information: To obtain a broad view of the Supplemental Nutrition Assistance Program (SNAP) performance measures, staff from State and local SNAP offices and partner organizations will be asked to respond. Data will be collected via surveys of SNAP staff, telephone and in-person interviews of SNAP and partner staff, and aggregated administrative records collection from SNAP and partner agencies. The collected information will help FNS understand how performance standards and reporting are occurring in the States with respect to SNAP modernization. Without this data collection, FNS would not be able to effectively develop, monitor or assess standards for identifying operational changes.

Description of Respondents: State, Local, or Tribal Government; Business or other for-profit; Not-for-profit institutions.

Number of Respondents: 786.

Frequency of Responses: Reporting: Monthly: Other (one-time)

Total Burden Hours: 3,473.

Ruth Brown,
Departmental Information Collection Clearance Officer.

[FR Doc. 2010-11682 Filed 5-14-10; 8:45 am]

BILLING CODE 3410-30-P